NUCLEAR REGULATORY COMMISSION

[Docket No. 72-09; NRC-2025-0075]

Department of Energy; Fort St. Vrain Independent Spent Fuel Storage Installation; License Amendment Application

AGENCY: Nuclear Regulatory Commission.

ACTION: Notice of docketing.

SUMMARY: The U.S. Nuclear Regulatory Commission (NRC) has received and docketed a license amendment application from the Department of Energy (DOE or the licensee) for amendment of Materials License No. SNM-2504, for the Fort St. Vrain (FSV) independent spent fuel storage installation (ISFSI) located in Platteville, Colorado. The requested amendment would revise certain license conditions and technical specifications (TS) by adjusting references to relevant organizational components of DOE, correcting prior clerical drafting errors, and changing the description of a DOE official who is responsible for the operation and nuclear safety of the FSV ISFSI and for ensuring its compliance with certain conditions and requirements of the license and applicable regulations. The NRC will process the application in accordance with NRC regulations, as further explained in the supplementary information section of this notice.

DATES: May 5, 2025.

ADDRESSES: Please refer to Docket ID NRC-2025-0075 when contacting the NRC about the availability of information regarding this document. You may obtain publicly available information related to this document using any of the following methods:

• Federal Rulemaking Website: Go to https://www.regulations.gov and search for Docket ID NRC-2025-0075. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Daneira Meléndez-Colón, Office of Nuclear Material Safety and Safeguards, U.S. Nuclear Regulatory Commission, Washington, DC 20555-0001; telephone: 301-415-7295; email: Daneira.Meléndez-Colon@nrc.gov.

SUPPLEMENTARY INFORMATION:

I. Introduction

By letter dated November 14, 2024, DOE submitted to the NRC an application to amend the license conditions and TS for the Fort St. Vrain ISFSI, located in Platteville, Colorado. Materials License No. SNM-2504 authorizes the licensee to receive, possess, store, and transfer spent nuclear fuel from the decommissioned FSV Nuclear Generating Station. The proposed amendment would revise TS 5.1.1 and 5.2.1.1 so that they explicitly designate the Manager for the Idaho Cleanup Project (ICP) as the DOE official who is responsible for the operation and nuclear safety of the FSV ISFSI and for ensuring its compliance with NRC license conditions and regulatory requirements. TS 5.1.1 currently designates the Deputy Manager for the ICP as the DOE official who is responsible for the operation of the FSV ISFSI and for ensuring its compliance with NRC license conditions and regulatory requirements. The proposed amendment would also revise TS 5.6.1 so that it identifies the Manager for the ICP, rather than the Deputy Manager, as one of the two DOE officials who are responsible for submitting certain reports that are required in connection with the license. Additionally, the proposed amendment would correct clerical drafting errors in TS 3.3.1 and 5.5.2.6 so that those technical specifications accurately reflect changes that were previously approved and included in License Amendment 10 but were inadvertently omitted from License Amendment 11. The proposed amendment would also correct an erroneous regulatory citation in TS 5.5.1.d, correct a typographical error in TS 5.5.2.5, and adjust references to relevant organizational components of DOE in License Condition 14 and in TS 5.1.5, 5.4.2, and 5.5.2.7.

In a letter to DOE dated March 21, 2025, the NRC notified DOE that the application was acceptable to begin a technical review. The NRC's Office of Nuclear Material Safety and Safeguards has docketed this application under Docket No. 72-09, and the NRC is issuing this notice of docketing as authorized and required by 10 CFR 72.16(e). The NRC will approve the license amendment if it finds that the application complies with the standards and requirements of the Atomic Energy Act of 1954, as amended, and the NRC's regulations, and the NRC will make findings consistent with the National Environmental Policy Act and part 51 of title 10 of the Code of Federal Regulations (10 CFR). These findings will be documented in a safety evaluation report. The NRC may issue either a notice of hearing or a notice of proposed action and opportunity for hearing in accordance with 10 CFR 72.46(b)(1) or, if a determination is made that the amendment does not present a genuine issue as to whether the health and safety of the public will be significantly affected, take immediate action on the amendment in accordance with 10 CFR 72.46(b)(2) and then promptly provide notice of the action taken and an opportunity for interested persons to request a hearing on whether the action should be rescinded or modified.

II. Availability of Documents

The documents identified in this notice are available to interested persons through ADAMS.

Document description | ADAMS accession No.
DOE Letter—License Amendment Request to Update the Licensee Designation of Authority Title for the Fort St. Vrain Independent Spent Fuel Storage Installation, Docket 72 0009, Materials License No. SNM-2504 (CLN250095), dated November 14, 2024 | ML24324A062 (Package).
NRC Letter—Issuance of Amendment No. 10 to Renewed Materials License No. SNM-2504 for the Fort St. Vrain Independent Spent Fuel Storage Installation (TAC No. L24994), dated March 17, 2016 | ML15258A217 (Package).
NRC Letter—Amendment No. 11 to Materials License No. SNM-2504 for the Fort St. Vrain Independent Spent Fuel Storage Installation, dated June 6, 2017 | ML17151A387 (Package).
NRC Letter—Application for License Amendment Request—Amendment No. 12 to Materials License No. 2504 for the Fort St. Vrain Independent Spent Fuel Storage Installation—Accepted for Review (CAC/EPID Nos. 001028/L-2024-LLA-0161), dated March 21, 2025 | ML25073A130.

Dated: April 29, 2025.
For the Nuclear Regulatory Commission.
Yoira Diaz-Sanabria,
Chief, Spent Fuel Licensing Branch, Division of Spent Fuel Management, Office of Nuclear Material Safety and Safeguards.

[FR Doc. 2025-07727 Filed 5-2-25; 8:45 am]

BILLING CODE 7590-01-P